DEPARTMENT OF COMMERCE

Foreign-Trade Zones Board

[B-31-2024]

Foreign-Trade Zone (FTZ) 230; Authorization of Production Activity; Patheon Softgels; (Pharmaceutical Products); High Point, North Carolina

On June 12, 2024, The Piedmont Triad Partnership, grantee of FTZ 230, submitted a notification of proposed production activity to the FTZ Board on behalf of Patheon Softgels, within Subzone 230C, in High Point, North Carolina.

The notification was processed in accordance with the regulations of the FTZ Board (15 CFR part 400), including notice in the Federal Register inviting public comment (89 FR 51873, June 20, 2024). On October 10, 2024, the applicant was notified of the FTZ Board's decision that no further review of the activity is warranted at this time. The production activity described in the notification was authorized, subject to the FTZ Act and the FTZ Board's regulations, including section 400.14.

Dated: October 10, 2024.
Elizabeth Whiteman,
Executive Secretary.

[FR Doc. 2024-23819 Filed 10-15-24; 8:45 am]

BILLING CODE 3510-DS-P